POSTAL SERVICE

Product Change—Priority Mail Express, Priority Mail, and USPS Ground Advantage Negotiated Service Agreements; Priority Mail and USPS Ground Advantage Negotiated Service Agreements; Priority Mail

AGENCY: Postal Service.

ACTION: Notice.

SUMMARY: The Postal Service gives notice of filing a request with the Postal Regulatory Commission to add a domestic shipping services contract to the list of Negotiated Service Agreements in the Mail Classification Schedule's Competitive Products List.

DATES: Date of notice: October 29, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
10/14/25 | PM-GA 880 | MC2026-22 | K2026-22
10/14/25 | PME-PM-GA 1439 | MC2026-23 | K2026-23
10/14/25 | PM-GA 881 | MC2026-25 | K2026-24
10/15/25 | PME-PM-GA 1440 | MC2026-27 | K2026-27
10/15/25 | PME-PM-GA 1441 | MC2026-29 | K2026-29
10/15/25 | PM-GA 882 | MC2026-30 | K2026-30
10/16/25 | PM-GA 883 | MC2026-32 | K2026-32
10/16/25 | PME-PM-GA 1442 | MC2026-33 | K2026-33
10/17/25 | PM 937 | MC2026-35 | K2026-35
10/17/25 | PM 938 | MC2026-36 | K2026-36
10/17/25 | PME-PM-GA 1443 | MC2026-37 | K2026-37
10/20/25 | PM-GA 884 | MC2026-38 | K2026-38
10/20/25 | PM-GA 885 | MC2026-39 | K2026-39
10/20/25 | PM-GA 886 | MC2026-40 | K2026-40
10/20/25 | PME-PM-GA 1444 | MC2026-41 | K2026-41
10/20/25 | PME-PM-GA 1445 | MC2026-42 | K2026-42
10/21/25 | PM 939 | MC2026-43 | K2026-43
10/21/25 | PM-GA 887 | MC2026-44 | K2026-44
10/21/25 | PM-GA 888 | MC2026-45 | K2026-45
10/22/25 | PM 940 | MC2026-46 | K2026-46
10/22/25 | PM-GA 889 | MC2026-47 | K2026-47
10/23/25 | PM-GA 890 | MC2026-48 | K2026-48
10/23/25 | PM-GA 891 | MC2026-49 | K2026-49
10/23/25 | PME-PM-GA 1446 | MC2026-50 | K2026-50
10/23/25 | PM-GA 892 | MC2026-51 | K2026-51
10/24/25 | PM-GA 893 | MC2026-52 | K2026-52
10/24/25 | PME-PM-GA 1447 | MC2026-53 | K2026-53
10/24/25 | PM 941 | MC2026-54 | K2026-54
10/24/25 | PM-GA 894 | MC2026-55 | K2026-55

Documents are available at www.prc.gov.

Colleen Hibbert-Kapler,
Attorney, Ethics and Legal Compliance.

[FR Doc. 2025-19688 Filed 10-28-25; 8:45 am]

BILLING CODE 7710-12-P